FEDERAL COMMUNICATIONS COMMISSION

[DA 02-3293]

Auction of Multichannel Video Distribution and Data Service Licenses (MVDDS) Is Rescheduled

AGENCY: Federal Communications Commission.

ACTION: Notice.

SUMMARY: This document announces that the start of the upcoming of MVDDS licenses scheduled for February 12, 2003 is rescheduled for August 6, 2003.

DATES: The MVDDS auction is scheduled to begin on August 6, 2003.

FOR FURTHER INFORMATION CONTACT: Media Contact: Lauren Kravetz at (202) 418-7944. Wireless Telecommunications Bureau: FCC Auctions Hotline at (888) 225-5322, Press Option #2.

SUPPLEMENTARY INFORMATION: This is a summary of a Public Notice released by the Wireless Telecommunications Bureau on November 26, 2002. The complete text of the Public Notice is available for public inspection and copying during regular business hours at the FCC Reference Information Center, Portals II, 445 12th Street, SW., Room CY-A257, Washington, DC 20554. The November 26, 2002 Public Notice may also be purchased from the Commission's duplication contractor, Qualex International, Portals II, 445 12th Street, SW., Room CY-B402, Washington, DC 20554, telephone 202-863-2893, facsimile 202-863-2898, or via e-mail qualexint@aol.com.

The Wireless Telecommunications Bureau announces the auction of the Multichannel Video Distribution and Data Service (MVDDS) licenses previously scheduled to begin on February 12, 2003, has been rescheduled for August 6, 2003. Future public notices will seek comment on specific terms and conditions for this auction. The key dates are listed:

Auction Seminar: June 5, 2003.

Short Form Deadline: June 16, 2003.

(FCC 175 Application)

Upfront Payment Deadline: July 10, 2003.

Mock Auction: August 1, 2003.

Auction Begins: August 6, 2003.

Federal Communications Commission.
Margaret Wiener,
Chief, Auctions and Industry Analysis Division, WTB.

[FR Doc. 02-31716 Filed 12-16-02; 8:45 am]

BILLING CODE 6712-01-P